GENERAL SERVICES ADMINISTRATION

[Notice-QTF-2014-01; Docket No. 2014-0002: Sequence No. 4]

Alliant II and Alliant Small Business II Social Media Web site

AGENCY: Office of Strategic Programs, Office of Integrated Technology Service, General Services Administration.

ACTION: Notice.

SUMMARY: GSA launched a new social media community on Interact.gsa.gov, for its Government Wide Acquisition Contracts (GWACs), Alliant II and Alliant Small Business II on January 14, 2014.

DATES: April 8, 2014

FOR FURTHER INFORMATION CONTACT: Casey Kelley, Program Manager, Alliant GWAC, U.S. General Services Administration (GSA), at 858-414-8982, or via email casey.kelly@gsa.gov.

SUPPLEMENTARY INFORMATION: The Alliant community page, https://interact.gsa.gov/group/alliant-ii-alliant-small-business-ii-gwacs, on Interact will facilitate a transparent and open dialog about GSA's strategy for the next version of the Alliant GWACs by collecting input and feedback from federal agency customers and current and potential Alliant industry partners. Following the success of the OASIS Interact community in driving collaboration between GSA, federal agencies and the contractor community, the Alliant Interact community will serve as a forum for industry and government to gather comments on proposed strategies, discuss ideas, and work together to create the most effective and efficient next-generation Alliant GWACs from GSA.

Creating this feedback channel for industry and government to work in partnership with GSA in the creation of the next generation of Alliant and Alliant Small Business is critical to continuing the success of these programs. The current Alliant GWACs for Information Technology services are among GSA's most successful acquisition programs for the federal government with 50 federal agencies doing more than $20 billion in business volume since their inception in 2009. GSA Alliant and Alliant Small Business GWACs are used for complex IT requirements involving data center consolidation, systems integration, cloud computing, cyber security, help desk support, and other IT disciplines.

The Alliant II and Alliant Small Business II Interact communities will serve as the one-stop-shop for updates and information regarding the next-generation Alliant GWACs. The scope of the Alliant GWACs is built on the foundation of Federal Enterprise Architecture allowing for in-scope acquisition of new and emerging technologies. The GSA GWAC Program is widely acclaimed for superior customer service, scope reviews, and acquisition support.

Dated: April 2, 2014.
Christopher Fornecker,
Director, Center for GWAC Programs, Office of Strategic Programs, Integrated Technology Service.

[FR Doc. 2014-07794 Filed 4-7-14; 8:45 am]

BILLING CODE 6820-XX-P